DEPARTMENT OF AGRICULTURE

Office of the Secretary

Notice of Intent To Seek Approval To Collect Information

AGENCY: Office of the Secretary, USDA.

ACTION: Notice and request for public comment.

SUMMARY: In accordance with the Paperwork Reduction Act of 1995 (Pub. L. 104-13) and the Office of Management and Budget (OMB) regulations at 5 CFR Part 1320 (60 FR 44978, August 29, 1995), this notice announces the Office of the White House Liaison's intention to request an extension of the currently approved manner of information collection (form AD-755) for all Advisory Committee Membership Background Information—expiration July 31, 2002; with the inclusion of one item (#19) at the end of the form, to be detailed later in this announcement.

DATES: Comments on this notice must be received by September 9, 2002.

ADDRESSES: Address all comments concerning this notice to Denise Bell, Program Support Specialist, Office of the White House Liaison, Telephone: (202) 720-2406, 1400 Independence Avenue, SW., the Whitten Building, Room 219-A, Washington, DC 20250.

SUPPLEMENTARY INFORMATION: Advisory Committee Membership Background Information. OMB Number 0505-0001.

FOR FURTHER INFORMATION CONTACT: Denise Bell at the above address or telephone: (202) 720-2406.

Expiration Date of Approval: July 31, 2002.

Type of Request: To extend the use of the currently approved information collection form (AD-755) with one addition to the form.

Abstract: The primary objective for the use of the AD-755 form is to determine the qualifications, suitability and availability of a candidate to serve on advisory committees and/or research and promotion boards. The information will be used to both conduct background clearances and to compile annual reports on advisory committees.

Estimate of Burden: Public reporting burden for this collection of information is estimated to average 30 minutes per respondent.

Respondents: Individuals or households.

Estimated number of respondents: 1,631.

Estimated number of responses per respondent: 1.

Estimated total annual burden on respondents: 815.

Comments: Comments are invited on: (a) Whether the proposed collection of information is necessary for the proper performance of the functions of the agency, including, whether the information will have practical utility. (b) The accuracy of the agency's estimate of the burden of the proposed collection of information; including the validity of the methodology and assumptions used. (c) Ways to enhance the quality, utility, and clarity of the information to be collected. (d) Finally, ways to minimize the burden of the collection of information on those who are to respond; such as through the use of appropriate automated, electronic, mechanical or other technological collection techniques or forms of information technology.

Additional Information: The USDA intends to provide electronic access and a submission alternative for applicants submitting this information on or before December 31, 2002.

Proposed Change to form AD-755: The Office of the White House Liaison proposes the addition of a section 19, requesting that a copy of the applicant's personal biography and/or résumé be submitted along with form AD-755.

Send comments to: Denise Bell, Program Support Specialist. Office of the White House Liaison. 1400 Independence Avenue, SW. The Whitten Building, Room 219-A Washington, DC 20250.

All responses to this notice will be summarized and included in the request for OMB approval.

All comments will also become a matter of public record.

Dated: June 28, 2002.
Ann M. Veneman,
Secretary of Agriculture.

[FR Doc. 02-16826 Filed 7-3-02; 8:45 am]

BILLING CODE 3410-01-M